DEPARTMENT OF DEFENSE

Office of the Secretary

Submission for OMB Review; Comment Request

ACTION: Notice.

The Department of Defense has submitted to OMB for clearance, the following proposal for collection of information under the provisions of the Paperwork Reduction Act (44 U.S.C. Chapter 35).

DATES: Consideration will be given to all comments received by May 19, 2003.

Title and OMB Number: Defense Federal Acquisition Regulation Supplement (DFARS) Part 232, Contract Financing and the clause at 252. 232-7002, Progress Payment for Foreign Military Sales Acquisition; OMB Number 0704-0321.

Type of Request: Extension.

Number of Respondents: 306.

Responses per Respondent: 12.

Annual Responses: 3,672.

Average Burden per Response: 30 minutes.

Annual Burden Hours: 1,836.

Needs and Uses: This information collection requires a contractor whose contract includes Foreign Military Sales (FMS) requirements and progress payments type of financing, to submit progress payment requests with supporting schedules that clearly distinguish the contract's FMS requirements from U.S.S contract requirements.

Affected Public: Business or Other For-Profit; Not-For-Profit Institutions.

Frequency: On Occasion.

Respondent's Obligation: Required to Obtain or Retain Benefits.

OMB Desk Officer: Ms. Jacqueline Zeiher.

Written comments and recommendations on the proposed information collection should be sent to Ms. Zeiher at the Office of Management and Budget, Desk Officer for DoD, Room 10235, New Executive office Building, Washington, DC 20503.

DOD Clearance Officer: Mr. Robert Cushing.

Written requests for copies of the information collection proposal should be sent to Mr. Cushing, WHS/DIOR, 1215 Jefferson Davis Highway, Suite 1204, Arlington, VA 22202-4302.

Dated: April 10, 2003.
Patricia L. Toppings,
Alternate OSD Federal Register, Liaison Officer, Department of Defense.

[FR Doc. 03-9456 Filed 4-16-03; 8:45 am]

BILLING CODE 5001-08-M